DEPARTMENT OF VETERANS AFFAIRS

Advisory Committee on Former Prisoners of War, Notice of Meeting

The Department of Veterans Affairs (VA) gives notice under the Federal Advisory Committee Act, 5 U.S.C. App.2, that the Advisory Committee on Former Prisoners of War (Committee) will conduct a virtual meeting September 22-23, 2021. The meeting sessions will begin and end as shown below:

Date | Time | Location | Open session
September 22, 2021 | 9:00a.m.-3:00p.m. (EDT) | Microsoft TEAMS Link and Call-in Information Below | Yes.
September 23, 2021 | 9:00a.m.-3:00p.m. (EDT) | Microsoft TEAMS Link and Call-in Information Below | Yes.

The meeting sessions are open to the public.

The purpose of the Committee is to advise the Secretary of Veterans Affairs on the administration of benefits under title 38 U.S.C., for Veterans who are Former Prisoners of War (FPOW), and to make recommendations on the needs of such Veterans for compensation, health care, rehabilitation, and memorial benefits.

The agenda will include updates from the Veterans Health Administration, the Veterans Benefits Administration, National Cemetery Administration, and VA Staff Offices, as well as briefings on other issues impacting FPOW Veterans and their families.

No time will be allocated at this meeting for receiving oral presentations from the public. Any member of the public may also submit a 1-2-page commentary for the Committee's review. Any member of the public seeking additional information should contact Mr. Julian Wright, Designated Federal Officer, Department of Veterans Affairs, Advisory Committee on Former Prisoners of War at Julian.Wright2@va.gov no later than September 15, 2021.

Any member of the public who wishes to participate in the virtual meeting may use the following Microsoft Teams Meeting Link:

Join On Your Computer or Mobile App: https://gcc02.safelinks.protection.outlook.com/ap/t-59584e83/?url=https%3A%2F%2Fteams.microsoft.com%2Fl%2Fmeetup-join%2F19%253ameeting_YWU0NDk0MDAtZDI4Yy00OGQwLWJmYjItNGM2MmEwMTc0Yjcw%2540thread.v2%2F0%3Fcontext%3D%257b%2522Tid%2522%253a%2522e95f1b23-abaf-45ee-821d-b7ab251ab3bf%2522%252c%2522Oid%2522%253a%2522b857b6c6-44d8-46b4-8041-6e7d50b9890a%2522%257d&data=04%7C01%7C%7Cfe352c66d4f049d0c4c708d955e1c9c2%7Ce95f1b23abaf45ee821db7ab251ab3bf%7C0%7C0%7C637635250496605736%7CUnknown%7CTWFpbGZsb3d8eyJWIjoiMC4wLjAwMDAiLCJQIjoiV2luMzIiLCJBTiI6Ik1haWwiLCJXVCI6Mn0%3D%7C1000&sdata=73mKVfVfn7BlfUyGQW05uib2vTj5BsyTaMksw6Wxgg4%3D&reserved=0.

Or Call-In (audio only): Phone: 1-872-701-0185, Code: 900828404#.

Dated: August 11, 2021.
Jelessa M. Burney,
Federal Advisory Committee Management Officer.

[FR Doc. 2021-17530 Filed 8-16-21; 8:45 am]

BILLING CODE 8320-01-P